DEPARTMENT OF HOUSING AND URBAN DEVELOPMENT

[Docket No. FR-7082-N-11]

60-Day Notice of Proposed Information Collection: Community Development Block Grant Entitlement Program; OMB Control No.: 2506-0077

AGENCY: Office of Community Planning and Development, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: December 16, 2024.

ADDRESSES: Interested persons are invited to submit comments regarding this proposal. Written comments and recommendations for the proposed information collection can be sent within 60 days of publication of this notice to www.regulations.gov.

Interested persons are also invited to submit comments regarding this proposal by name and/or OMB Control Number and can be sent to: Colette Pollard, Reports Management Officer, REE, Department of Housing and Urban Development, 451 7th Street SW, Room 8210, Washington, DC 20410-5000; telephone (202) 402-3400 (this is not a toll-free number) or email at Colette.Pollard@hud.gov for a copy of the proposed forms or other available information.

FOR FURTHER INFORMATION CONTACT: Gloria Coates, Senior Community Planning and Development Specialist, Entitlement Communities Division, Office of Block Grant Assistance, Department of Housing and Urban Development, 451 7th Street SW, Room 7282, Washington, DC 20410-5000; email at gloria.l.coates@hud.gov or telephone (202) 402-2184. This is not a toll-free number. HUD welcomes and is prepared to receive calls from individuals who are deaf or hard of hearing, as well as individuals with speech or communication disabilities. To learn more about how to make an accessible telephone call, please visit https://www.fcc.gov/consumers/guides/telecommunications-relay-service-trs. Copies of available documents submitted to OMB may be obtained from Ms. Coates.

SUPPLEMENTARY INFORMATION: This notice informs the public that HUD is seeking approval from OMB for the information collection described in Section A.

A. Overview of Information Collection

Title of Information Collection: Community Development Block Grant Entitlement Program.

OMB Approval Number: 2506-0077.

Type of Request: Revision.

Form Number: N/A.

Description of the need for the information and proposed use: This request identifies the estimated reporting burden associated with information that CDBG entitlement grantees will report in IDIS for CDBG-assisted activities, recordkeeping requirements, and reporting requirements. Grantees are encouraged to update their accomplishments in IDIS on a quarterly basis. In addition, grantees are required to retain records necessary to document compliance with statutory and regulatory requirements, Executive orders, 2 CFR part 200 requirements, and determinations required to be made by grantees as a determination of eligibility. Among the reports grantees now submit in IDIS is the PR 29 Cash on Hand Quarterly Report. This report is a conversion of the SF-425. Federal Financial Report, that grantees submitted by hard copy, but with the addition of data elements related to local account repayment receipt funds and revolving loan funds that grantees may have under their control. As a new form, included in this information collection for the first time, it is also being presented for OMB review and approval and public comment. Also, grantees are required to prepare and submit their Consolidated Annual Performance and Evaluation Reports, which demonstrate the progress grantees make in carrying out CDBG-assisted activities listed in their consolidated plans. This report is due to HUD 90 days after the end of the grantee's program year. The information required for any activity is generally based on the eligibility of the activity and which of the three national objectives (benefit low- and moderate-income persons; eliminate/prevent slums or blight; or meet an urgent need) the grantee has determined that the activity will address.

Respondents: Grant recipients (metropolitan cities and urban counties) participating in the CDBG Entitlement Program.

Estimation number of Respondents: 1,237.

Estimation Number of Responses: The proposed frequency of the response to the collection is on an annual basis.

Frequency of Response: Annually.

Total Estimated Burdens
Task | Number of respondents | Frequency of response | Responses per annum | Burden hour per response | Annual burden hours | Hourly cost per response | Annual cost
Current Inventory: Recordkeeping pursuant to 24 CFR 570.506 | 1,237 | 1 | 1,237 | 129.00 | 159,573.00 | 47.53 | $7,584,504.69
Reporting pursuant to 24 CFR 570.507, 24 CFR 570.200(e) and 570.506(c) | 1,237 | 4 | 4,948 | 78.50 | 388,418.00 | 47.53 | 18,461,507.50
Entitlement communities maintain required documentation | 1,237 | 1 | 1,237 | 25.00 | 30,925.00 | 47.53 | 1,469,865.25
PR 29 Cash on Hand Quarterly Report | 1,237 | 4 | 4,948 | 0.75 | 3,711.00 | 47.53 | 176,383.83
Total | 1,237 |  |  |  | 582,627.00 |  | 27,692,261.27

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. chapter 35.

Marion M. McFadden,
Principal Deputy Assistant Secretary for Community Planning and Development.

[FR Doc. 2024-23645 Filed 10-11-24; 8:45 am]

BILLING CODE 4210-67-P